ENVIRONMENTAL PROTECTION AGENCY

[FRL-7828-1]

Proposed Consent Decree, Clean Air Act Citizen Suit

AGENCY: Environmental Protection Agency (EPA).

ACTION: Notice of proposed consent decree; request for public comment.

SUMMARY: In accordance with section 113(g) of the Clean Air Act, as amended (“Act”), 42 U.S.C. 7413(g), notice is hereby given of a proposed consent decree agreement, to address consolidated lawsuits filed by the Sierra Club. Sierra Club v. Leavitt, Nos. 1:02CV00946, 1:02CV00947 and 1:03CV02410 (D. D.C.). In May 2002 and November 2003, Sierra Club filed lawsuits against EPA claiming that EPA had failed to carry out mandatory duties imposed by sections 112(d)(6) and 112(f)(2)(A) of the Act with respect to coke oven batteries and dry cleaners. Specifically, the complaints alleged that EPA had failed to determine within the deadlines established by the Act whether or not to revise technology-based standards issued for these source categories pursuant to sections 112(d)(8)(A) and 112(d)(2) to adopt more stringent technology-based standards or more stringent risk-based standards. Under the terms of the proposed consent decree, by March 31, 2005, EPA must make a final determination whether or not to amend the emission standards for coke oven batteries, and by April 28, 2006, EPA must make a final determination whether or not to amend the emission standards for dry cleaning facilities.

DATES: Written comments on the proposed consent decree must be received by November 15, 2004.

ADDRESSES: Submit your comments, identified by docket ID number OGC-2004-0009, online at http://www.epa.gov/edocket (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room B102, 1301 Constitution Ave., NW., Washington, DC, between 8:30 a.m. and 4:30 p.m. Monday through Friday, excluding legal holidays. Comments on a disk or CD-ROM should be formatted in Wordperfect or ASCII file, avoiding the use of special characters and any form of encryption, and may be mailed to the mailing address above.

FOR FURTHER INFORMATION CONTACT: Steven Silverman, Air and Radiation Law Office (2344A), Office of General Counsel, U.S. Environmental Protection Agency, 1200 Pennsylvania Ave., NW., Washington, DC 20460. telephone: (202) 564-5523.

SUPPLEMENTARY INFORMATION:

I. Additional Information About the Proposed Consent Decree

The proposed consent decree addresses lawsuits alleging that EPA failed to carry out its mandatory duties under section 112(d)(6) and 112(f)(2) to determine whether or not to revise the so-called MACT (“maximum achievable control technology”) standards for coke oven batteries and for dry cleaners by the deadlines established by the Act. Section 112(d)(6) requires that EPA periodically review and revise as necessary, taking into account developments in practices, processes, and control technologies, MACT standards issued pursuant to section 112(d). Section 112(f)(2) requires that EPA evaluate on a prescribed schedule whether risks to human health or the environment remaining after promulgation of a MACT standard warrant revision of that standard.

Under the proposed consent decree EPA will conduct a rulemaking to review, and to revise as necessary the existing emission standards for coke oven batteries. (These are MACT standards established pursuant to section 112(d)(8)(A) of the Act.) The rulemaking will address determinations under both section 112(d)(6) and 112(f)(2). No later than March 31, 2005, EPA shall sign a final rule revising the emission standards for coke oven batteries or make a final determination that such standards are not required. (EPA has in fact proposed to amend the MACT standards for coke oven batteries and now is accepting comment on that proposal. See 69 FR 48337 (August 9, 2004.))

The proposed consent decree also requires that EPA will conduct a rulemaking to review, and to revise as necessary the existing emission standards for dry cleaning facilities. (These are MACT standards issued pursuant to section 112(d)(2) of the Act.) The rulemaking will address determinations under both section 112(d)(6) and 112(f)(2). No later than April 28, 2006, EPA shall sign a final rule revising emission standards for dry cleaning facilities or make a final determination that such standards are not required.

For a period of thirty (30) days following the date of publication of this notice, the Agency will accept written comments relating to the proposed consent decree from persons who were not named as parties or interveners to the litigation in question. EPA or the Department of Justice may withdraw or withhold consent to the proposed consent decree if the comments disclose facts or considerations that indicate that such consent is inappropriate, improper, inadequate, or inconsistent with the requirements of the Act. Unless EPA or the Department of Justice determine, based on any comment which may be submitted, that consent to the consent decree should be withdrawn, the terms of the decree will be affirmed.

II. Additional Information About Commenting on the Proposed Consent Decree

A. How Can I Get a Copy of the Consent Decree?

EPA has established an official public docket for this action under Docket ID No. OGC-2004-0009 which contains a copy of the consent decree. The official public docket is available for public viewing at the Office of Environmental Information (OEI) Docket in the EPA Docket Center, EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

It is important to note that EPA's policy is that public comments, whether submitted electronically or in paper, will be made available for public viewing in EPA's electronic public docket as EPA receives them and without change, unless the comment contains copyrighted material, CBI, or other information whose disclosure is restricted by statute. Information claimed as CBI and other information whose disclosure is restricted by statute is not included in the official public docket or in EPA's electronic public docket. EPA's policy is that copyrighted material, including copyrighted material contained in a public comment, will not be placed in EPA's electronic public docket but will be available only in printed, paper form in the official public docket. Although not all docket materials may be available electronically, you may still access any of the publicly available docket materials through the EPA Docket Center.

B. How and To Whom Do I Submit Comments?

You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Your use of EPA's electronic public docket to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through EPA's electronic public docket, your e-mail address is automatically captured and included as part of the comment that is placed in the official public docket, and made available in EPA's electronic public docket.

Dated: October 1, 2004.
Lisa K. Friedman,
Associate General Counsel, Air and Radiation Law Office, Office of General Counsel.

[FR Doc. 04-23154 Filed 10-14-04; 8:45 am]

BILLING CODE 6560-50-P